DEPARTMENT OF THE INTERIOR

Bureau of Land Management

[LLWY-957400-12-L19100000-BJ0000-LRCMK1G03341]

Filing of Plats of Survey, Nebraska

AGENCY: Bureau of Land Management, Interior.

ACTION: Notice.

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plat and field notes representing the dependent resurvey of portions of the subdivisional lines, the subdivision of certain sections, the adjusted 1928-29 meanders of the dry bed of old lake (Tract 37) and the adjusted 1929 meanders of the right bank of the Missouri River, and the corrective dependent resurvey of a portion of the original 1867 meanders of the right bank of the Missouri river, and the survey of the subdivision of certain sections, and the meander of a portion of the present right bank of the Missouri River, fractional Township 25 North, Range 10 East, of the Sixth Principal Meridian, Nebraska, Group No. 168, was accepted November 3, 2011.

Copies of the preceding described plat and field notes are available to the public at a cost of $1.10 per page.

Dated: November 9, 2011.
John P. Lee,
Chief Cadastral Surveyor, Division of Support Services.

[FR Doc. 2011-29580 Filed 11-15-11; 8:45 am]

BILLING CODE 4310-22-P